ENVIRONMENTAL PROTECTION AGENCY

40 CFR Parts 9 and 721

[EPA-HQ-OPPT-2018-0567; FRL-9986-34]

RIN 2070-AB27

Significant New Use Rules on Certain Chemical Substances; Reopening of Comment Period

AGENCY: Environmental Protection Agency (EPA).

ACTION: Proposed rule; reopening of comment period.

SUMMARY: EPA issued a proposed significant new use rule (SNUR) in the Federal Register of September 17, 2018 (FRL-9983-14) for 28 chemical substances. EPA is reopening the comment period because it received a request to extend the comment period but the request was received too late to publish an extension of the comment period before the comment period expired.

DATES: Comments, identified by docket identification (ID) number EPA-HQ-OPPT-2018-0567 must be received on or before January 9, 2019. This Federal Register document published the issue of September 17, 2018 reopens the comment period for the proposed rule until January 9, 2019.

ADDRESSES: Follow the detailed instructions provided under ADDRESSES in the Federal Register document of September 17, 2018 (83 FR 47004) (FRL-9983-14).

FOR FURTHER INFORMATION CONTACT:

For technical information contact: Kenneth Moss, Chemical Control Division (7405M), Office of Pollution Prevention and Toxics, Environmental Protection Agency, 1200 Pennsylvania Ave. NW, Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION: This document reopens the public comment period established in the Federal Register document of September 17, 2018. In that document, EPA proposed SNURs for 28 chemical substances. EPA received a request to extend the comment period for 30 days but the request was received too late to publish an extension of the comment period before the comment period expired. EPA is hereby reopening the comment period for 30 days.

Note that in the September 17, 2018 issue of the Federal Register including the proposed SNURs for 28 chemical substances, the Agency also issued direct final SNURs for these chemical substances (83 FR 47004) (FRL-9983-14). As of the date of signature of this action to reopen the comment period on the proposed rule, that direct final rule was in the process of being withdrawn because of the receipt of adverse comments and a request to extend the comment period. EPA will address all adverse public comments in a subsequent final rule, based on the proposed rule.

To submit comments, or access the docket, please follow the detailed instructions provided under ADDRESSES in the Federal Register document of September 17, 2018. If you have questions, consult the technical person listed under FOR FURTHER INFORMATION CONTACT.

List of Subjects

40 CFR Part 9

Environmental protection, Reporting and recordkeeping requirements.

40 CFR Part 721

Environmental protection, Chemicals, Hazardous substances, Reporting and recordkeeping requirements.

Dated: November 16, 2018.
Jeffrey T. Morris,
Director, Office of Pollution Prevention and Toxics.

[FR Doc. 2018-26685 Filed 12-7-18; 8:45 am]

BILLING CODE 6560-50-P